DEPARTMENT OF COMMERCE

National Oceanic and Atmospheric Administration

[RTID 0648-XA297]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an application submitted by the Cape Cod Commercial Fishermen's Alliance for the renewal of an exempted fishing permit contains all of the required information and warrants further consideration. This exempted fishing permit would allow two commercial fishing vessels participating in an electronic monitoring program to fish in the Southern New England Regulated Mesh Area with a 6-inch (15.24 cm) diamond mesh codend. Regulations under the Magnuson-Stevens Fishery Conservation and Management Act require publication of this notification to provide interested parties the opportunity to comment on applications for proposed exempted fishing permits.

DATES: Comments must be received on or before August 19, 2020.

ADDRESSES: You may submit written comments by the following method:

• Email: nmfs.gar.efp@noaa.gov. Include in the subject line “6-INCH MESH CODEND EM EFP.”

FOR FURTHER INFORMATION CONTACT: Spencer Talmage, Fishery Management Specialist, 978-281-9232.

SUPPLEMENTARY INFORMATION: On June 5, 2020, the Cape Cod Commercial Fishermen's Alliance (Alliance) submitted an application for a renewal of an exempted fishing permit (EFP) which would exempt two trawl vessels from the codend minimum mesh size restriction in the Southern New England (SNE) Regulated Mesh Area (RMA), as found in 50 CFR 648.80(b)(2)(i), to conduct an exploratory fishing project. Fishermen have reported a seasonally appearing abundance of haddock in the SNE RMA, and a 6-inch (15.24-cm) diamond mesh codend is intended to increase harvest of haddock while reducing discards of flounder species, relative to the current codend minimum mesh size of 6.5 inches (16.51 cm).

We issued the fishing year 2019 EFP in December 2019, and the EFP ended on April 30, 2020. The study period under the 2019 EFP did not provide sufficient time for participating vessels to fish for haddock with the 6-inch (15.24-cm) diamond mesh codend. Vessels completed only one tow on a single trip with the gear and encountered no haddock. The Alliance submitted a renewal application so that exploratory fishing could be completed, and requests an expanded study period from September 1, 2020, through April 30, 2021. This would provide an opportunity for participating vessels to locate and fish for seasonally available haddock when present. This EFP would be identical to the EFP issued for the 2019 fishing year.

Participating vessels would conduct commercial fishing with the 6-inch (15.24-cm) diamond mesh codend in SNE, specifically statistical areas 537, 539, 611, and 613. The application estimates that each of the two vessels participating with the exemption from minimum codend mesh size would take 35 day-trips during the project. Of the 35 trips that each vessel plans to take during that time period, the number of trips taken with a 6-inch (15.24-cm) mesh codend under the proposed EFP would vary, based on the presence of haddock. On EFP trips, four to five hauls would be made per day, with each tow length averaging 2 to 3 hours. While on these trips, vessels may switch back to a standard 6.5-inch (16.51-cm) mesh cod-end to retain operational flexibility.

The applicant states that a switch from a 6.5-inch (16.51-cm) square mesh codend to the 6-inch (15.24-cm) diamond mesh codend would improve catch of haddock, a healthy stock, while reducing catch of several flounder species. Based on a codend mesh selectivity study which compared retention length and size selection range for 6.5- and 6-inch (16.51- and 15.24-cm) square and diamond mesh, the applicant additionally states that 6-inch (15.24-cm) diamond mesh is unlikely to retain undersized haddock (He, 2007).

The participating vessels must also participate in the audit-model electronic monitoring (EM) program, and participating vessels are required to use EM on 100 perfect of trips. Vessels must adhere to a vessel-specific monitoring plan detailing at-sea catch handling protocols. Vessels also submit haul-level electronic vessel trip reports (eVTR) with count and weight estimates for all groundfish discards. The Alliance would compare the discard data collected from trips taken by vessels fishing with a 6-inch (15.24-cm) diamond mesh codend to trips with the standard 6.5-inch (16.51-cm) mesh codend. The Alliance states that this comparison would also demonstrate the usefulness of EM systems as tools for research.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

References

He, P. (2007). Selectivity of large mesh trawl codends in the Gulf of Maine: I. Comparison of square and diamond mesh. Fisheries Research, 83(1), 44-59.

Authority: 16 U.S.C. 1801 et seq.

Dated: July 29, 2020.
Jennifer M. Wallace,
Acting Director, Office of Sustainable Fisheries, National Marine Fisheries Service.

[FR Doc. 2020-16867 Filed 8-3-20; 8:45 am]

BILLING CODE 3510-22-P